DEPARTMENT OF DEFENSE

Department of the Navy

[Docket ID: USN-2014-0023]

Privacy Act of 1974; System of Records

AGENCY: Department of the Navy, DoD.

ACTION: Notice to alter a System of Records.

SUMMARY: The Department of the Navy proposes to alter the system of records, N06150-5, entitled “Millennium Cohort Study” in its inventory of record systems subject to the Privacy Act of 1974, as amended. This system will create a probability-based database of service members and veterans who have, or have not, deployed overseas so that various longitudinal health and research studies may be conducted over a 67-year period. The database will be used:

a. To systematically collect population-based demographic and health data to evaluate the health of Armed Forces personnel throughout their careers and after leaving the service.

b. To evaluate the impact of operational deployments on various measures of health over time including medically unexplained symptoms and chronic diseases to include cancer, heart disease and diabetes.

c. To serve as a foundation upon which other routinely captured medical and deployment data may be added to answer future questions regarding the health risks of operational deployment, occupations, and general service in the Armed Forces.

d. To examine characteristics of service in the Armed Forces associated with common clinician-diagnosed diseases and with scores on several standardized self-reported health inventories for physical and psychological functional status.

e. To provide a data repository and available representative Armed Forces cohort that future investigators and policy makers might use to study important aspects of service in the Armed Forces including disease outcomes among an Armed Forces cohort. In addition to revealing changes in veterans' health status over time, the Millennium Cohort Study will serve as a data repository, providing a solid foundation upon which additional epidemiological studies may be constructed.

f. To access the associations of military service on the health and well-being of military families, and to compare the adjusted probabilities of new onset diseases and conditions among military spouses.”

DATES: Comments will be accepted on or before December 15, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Office Web site at http://dpclo.defense.gov/.

The proposed system report, as required by 5 U.S.C. 552a(r) of the Privacy Act of 1974, as amended, was submitted on October 22, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 7, 2014.
Aaron Siegel,
Alternate OSD Federal Register Liaison Officer, Department of Defense.

N06150-5

System name:

Millennium Cohort Study (June 16, 2003, 68 FR 35657).

Changes:

System identifier:

Delete entry and replace with “N06500-1.”

* * * * *

System location:

Delete entry and replace with “Naval Health Research Center, Deployment Health Research, Department 164, 140 Sylvester Road, San Diego, CA 92106-3521.”

Categories of individuals covered by the system:

Delete entry and replace with “An initial probability-based, cross-sectional sample of U.S. Armed Forces personnel (active duty Army, Navy, Marine Corps, Coast Guard, Air Force, and Reserve/National Guard, and veterans), as of October 2000, that will be followed prospectively by postal or web surveys every 3 years over at least a 67-year period. The initial sample was comprised of 77,047 service members including individuals who have been deployed to Southwest Asia, Bosnia, or Kosovo since August 1997. In October 2004 and October 2007, samples of 31,110 and 43,440, respectively, of new Armed Forces personnel were added to the Cohort. In May 2011, a random sample of approximately 50,000 new Armed Forces personnel was added to the Cohort. The individuals will be followed until at least the year 2068, even if they retire or separate. The Millennium Cohort Study will also evaluate families of service members by adding a spouse assessment component to the Cohort, called the Millennium Cohort Family Study, where spouses complete a survey about themselves and their children. Beginning in May 2011, a sample of approximately 10,000 spouses of Armed Forces personnel were added to the Family Cohort and will be followed until at least 2022.”

Categories of records in the system:

Delete entry and replace with “Demographic data: Name, last four of Social Security Number (SSN), subject identification number, rank, grade, gender, military occupational specialty; health data: self-reported medical conditions and symptoms, smoking and drinking behaviors wellness, life experiences, and relationship with family. Validated instruments are incorporated to capture self-assessed physical and mental functional status (Short Form-36 Veterans), psychosocial assessment (Patient Health Questionnaire), and post-traumatic stress disorder (Patient Checklist-17). These records include all data elements previously mentioned.

Information obtained from the survey responses will be supplemented with deployment, occupational, vaccination, and healthcare utilization data related to individual health status.”

Authority for maintenance of the system:

Delete entry and replace with “5 U.S.C. 301, Departmental Regulations; 10 U.S.C. 5031, Office of the Chief of Naval Operations: Function, composition; 10 U.S.C. 5032, Office of the Chief of Naval Operations: general duties; DoDD 5124.02, Under Secretary of Defense for Personnel and Readiness (USD(P&R)); 10 U.S.C. 136, Under Secretary of Defense for Personnel and Readiness (USD(P&R)); OPNAVINST 5300.8C, Coordination and Control of Personnel Surveys; DoD 6025.18-R, DoD Health Information Privacy Regulation; and E.O. 9397 (SSN), as amended.”

Purpose(s):

Delete entry and replace with “To create a probability-based database of service members and veterans who have, or have not, deployed overseas so that various longitudinal health and research studies may be conducted over a 67-year period. The database will be used:

a. To systematically collect population-based demographic and health data to evaluate the health of Armed Forces personnel throughout their careers and after leaving the service.

b. To evaluate the impact of operational deployments on various measures of health over time including medically unexplained symptoms and chronic diseases to include cancer, heart disease and diabetes.

c. To serve as a foundation upon which other routinely captured medical and deployment data may be added to answer future questions regarding the health risks of operational deployment, occupations, and general service in the Armed Forces.

d. To examine characteristics of service in the Armed Forces associated with common clinician-diagnosed diseases and with scores on several standardized self-reported health inventories for physical and psychological functional status.

e. To provide a data repository and available representative Armed Forces cohort that future investigators and policy makers might use to study important aspects of service in the Armed Forces including disease outcomes among an Armed Forces cohort.

In addition to revealing changes in veterans' health status over time, the Millennium Cohort Study will serve as a data repository, providing a solid foundation upon which additional epidemiological studies may be constructed.

f. To access the associations of military service on the health and well-being of military families, and to compare the adjusted probabilities of new onset diseases and conditions among military spouses.”

* * * * *

Storage:

Delete entry and replace with “Paper and electronic storage media.”

Retrievability:

Delete entry and replace with “Records are retrieved by individual's name and/or randomly generated subject identification number.”

Safeguards:

Delete entry and replace with “Access to areas where records are maintained is limited to authorized personnel. Access control devices protect areas during working hours and intrusion alarm devices during non-duty hours. Access to data is provided on a need-to-know basis only. Paper records are kept in locked file cabinets. Data is stored on a secure server. All supplied sensitive information is transmitted via encrypted Secure Sockets Layer (SSL) technology. Randomly generated subject identification numbers are used as the primary identifier instead of the individual's names. Electronic records can only be accessed by authorized personnel with Common Access Cards (CAC) in conjunction with a personal identification number.”

Retention and disposal:

Delete entry and replace with “Electronic records and signed original paper consent forms are permanent and transferred to the nearest Federal Records Center (FRC) when 5 years old and then transferred to NARA when 20 years old. Temporary supporting records (to include paper records) are transferred to the nearest FRC when 5 years old and destroyed when 10 years old. Temporary non-record files (to include paper records or to include paper copies of the surveys) will be destroyed when 5 years old or on completion/termination of project.”

System manager(s) and address:

Delete entry and replace with “Policy Official: Commanding Officer, Naval Health Research Center, 140 Sylvester Rd, San Diego, CA 92106-3521.

Record Holder: Senior Investigator, The Millennium Cohort Study, Naval Health Research Center, Deployment Health Research Department, 140 Sylvester Rd, San Diego, CA 92106-3521.”

Notification procedure:

Delete entry and replace with “Individuals seeking to determine whether information about themselves is contained in this system should address written inquiries to the Senior Investigator, The Millennium Cohort Study, Naval Health Research Center, Deployment Health Research Department, 140 Sylvester Rd, San Diego, CA 92106-3521.

The request should contain the individual's name and last four of SSN, subject identification number (if known) and must be signed by the individual requesting the information.

The system manager may require an original signature or a notarized signature as a means of proving the identity of the individual.”

Record access procedures:

Delete entry and replace with “Individuals seeking access to information about themselves contained in this system should address written inquiries to the Senior Investigator, The Millennium Cohort Study, Naval Health Research Center, Deployment Health Research Department, 140 Sylvester Rd, San Diego, CA 92106-3521.

The request should contain the individual's name and last four of SSN, subject identification number (if known) and must be signed by the individual requesting the information.

The system manager may require an original signature or a notarized signature as a means of proving the identity of the individual requesting access to the records.”

* * * * *

Record source categories:

Delete entry and replace with “Individual participant survey instruments; Composite Health Care System (CHCS); Corporate Executive Information Systems; Defense Manpower Data Center (DMDC); Defense Enrollment Eligibility Reporting System (DEERS); Civilian Health and Medical Program of the Uniformed Services; MHS Data Repository (MDR); Armed Forces Health Longitudinal Technology Application (AHLTA); Armed Forces Medical Examiner System (AFMES); National Data Index (NDI); Army Medical Surveillance Activity (AMSA); Joint Theater Trauma Registry (JTTR); Department of Veterans Affairs Computerized Patient Record System (CPRS); survey research instruments and health research records at Naval Medical Center, San Diego; and individual physical exams and biological specimens.”

* * * * *

[FR Doc. 2014-26930 Filed 11-13-14; 8:45 am]

BILLING CODE 5001-06-P